FEDERAL RESERVE SYSTEM

Formations of, Acquisitions by, and Mergers of Bank Holding Companies; Correction

This notice corrects a notice (FR Doc. 02-567) published on pages 1357 and 1358 of the issue for Thursday, January 10, 2002.

Under the Federal Reserve Bank of Chicago heading, the entry for Marshall & Ilsley Corporation, Milwaukee, Wisconsin, is revised to read as follows:

A. Federal Reserve Bank of Chicago (Phillip Jackson, Applications Officer) 230 South LaSalle Street, Chicago, Illinois 60690-1414:

1. Marshall & Ilsley Corporation, Milwaukee, Wisconsin; to merge with Century Bancshares, Inc., Eden Prairie, Minnesota, and thereby indirectly acquire 100 percent of the voting shares of Century Bank, National Association, Eden Prairie, Minnesota.

Comments on this application must be received by February 4, 2002.

Board of Governors of the Federal Reserve System, January 11, 2002.
Robert deV. Frierson,
Deputy Secretary of the Board.

[FR Doc. 02-1172 Filed 1-16-02; 8:45 am]

BILLING CODE 6210-02-S